Title 3—

The President

Executive Order 13734 of August 3, 2016

Amending Executive Order 13675 To Expand Membership on the President's Advisory Council on Doing Business in Africa

By the authority vested in me as President by the Constitution and the laws of the United States of America, and in order to promote broad-based economic growth and job creation in the United States and Africa by encouraging U.S. companies to trade with and invest in Africa, it is hereby ordered as follows:

Section 1. Policy. Recognizing the tremendous potential of expanding the U.S.-Africa commercial relationship, the United States in 2014 launched the Trade Africa Initiative, a partnership between the United States and Sub-Saharan Africa, and created a U.S. Strategy Toward Sub-Saharan Africa outlining a comprehensive U.S. policy for the region, among other activities. Ensuring that such initiatives and activities reflect the priorities of, and benefit from the support of, the private sector is critical to their success. For that reason, in Executive Order 13675 of August 5, 2014, I directed the Secretary of Commerce to establish the President's Advisory Council on Doing Business in Africa (Council). Since its establishment in November 2014, the Council has been actively engaged in advising on strengthening commercial engagement between the United States and Africa and has provided numerous recommendations on a broad range of issues. In light of the numerous U.S. Government initiatives and activities to promote expansion of the commercial relationship, the breadth of U.S. private sector engagement in Sub-Saharan Africa, and the range of issues on which future advice may be requested, broader representation of the diversity of private sector viewpoints, experiences, and knowledge on the Council is warranted. Thus I am increasing the membership of the Council.

Sec. 2. Amendment to Executive Order 13675. Executive Order 13675 of August 5, 2014, is amended in section 3(a) by striking “shall consist of not more than 15 private sector corporate members” and inserting in lieu thereof “shall consist of not more than 26 private sector corporate members”.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

August 3, 2016.

[FR Doc. 2016-18872

Filed 8-5-16; 8:45 am]

Billing code 3295-F6-P